BUREAU OF CONSUMER FINANCIAL PROTECTION

[Docket No. CFPB-2018-0007]

Agency Information Collection Activities: Submission for OMB Review; Comment Request

AGENCY: Bureau of Consumer Financial Protection.

ACTION: Notice and request for comment.

SUMMARY: In accordance with the Paperwork Reduction Act of 1995 (PRA), the Bureau of Consumer Financial Protection (Bureau) is proposing to renew with change the Office of Management and Budget (OMB) approval for an existing information collection titled, “Financial Coaching Program for Veterans and Low-income Consumers.”

DATES: Written comments are encouraged and must be received on or before March 28, 2018 to be assured of consideration.

ADDRESSES: Comments in response to this notice are to be directed towards OMB and to the attention of the OMB Desk Officer for the Bureau of Consumer Financial Protection. You may submit comments, identified by the title of the information collection, OMB Control Number (see below), and docket number (see above), by any of the following methods:

• Electronic: http://www.regulations.gov. Follow the instructions for submitting comments.

• Email: OIRA_submission@omb.eop.gov.

• Fax: (202) 395-5806.

• Mail: Office of Management and Budget, New Executive Office Building, Room 10235, Washington, DC 20503.

In general, all comments received will become public records, including any personal information provided. Sensitive personal information, such as account numbers or Social Security numbers, should not be included.

FOR FURTHER INFORMATION CONTACT: Documentation prepared in support of this information collection request is available at www.reginfo.gov (this link becomes active on the day following publication of this notice). Select “Information Collection Review,” under “Currently under review, use the dropdown menu “Select Agency” and select “Consumer Financial Protection Bureau” (recent submissions to OMB will be at the top of the list). The same documentation is also available at http://www.regulations.gov. Requests for additional information should be directed to the Consumer Financial Protection Bureau (Attention: PRA Office), 1700 G Street NW, Washington, DC 20552, (202) 435-9575, or email: CFPB_PRA@cfpb.gov. If you require this document in an alternative electronic format, please contact CFPB_Accessibility@cfpb.gov. Please do not submit comments to these email boxes.

SUPPLEMENTARY INFORMATION: Title of Collection: Financial Coaching Program for Veterans and Low-income Consumers.

OMB Control Number: 3170-0051.

Type of Review: Extension with change of a currently approved collection.

Affected Public: Individuals.

Estimated Number of Respondents: 7,200.

Estimated Total Annual Burden Hours: 3,600.

Abstract: In early 2015, the Bureau launched a Financial Coaching project to provide direct financial coaching services to transitioning veterans and economically vulnerable consumers nationwide. In order for the Bureau to understand whether the program is effective and for the financial coaches to be able to deliver efficient services and track clients over time, the Bureau needs to take steps to monitor program performance and to evaluate the program. This includes collecting administrative data about clients for programmatic purposes. The information is collected from the coaches and includes a combination of personal information (basic contact and demographic information), performance metrics (outputs), client-level outcomes (progress towards financial goals or other relevant outcomes) and programmatic and organizational outcomes.

The initial information collection request for the administrative data collected by coaches from financial coaching clients for programmatic and performance monitoring purposes was approved in 2015 and expires on February 28, 2018. In 2015, the Financial Coaching program was extended beyond the initial program period and subsequently, this request is for an extension of administrative data collection. In addition, this information request includes a modification, to add five questions to the administrative data collection. The five questions are part of the Financial Well-being Survey, which received approval under OMB Control Number 3170-0063 in order to measure the level of financial well-being of American adults and key sub-populations. This will help us understand the progress clients are making and is also in line with the Bureau's overall efforts to be more consistent in the information we are collecting.

Request for Comments: The Bureau issued a 60-day Federal Register notice on November 8, 2017, (82 FR 51822), Docket Number: CFPB-2017-0032. Comments were solicited and continue to be invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Dated: February 20, 2018.
Darrin A. King,
Paperwork Reduction Act Officer, Bureau of Consumer Financial Protection.

[FR Doc. 2018-03791 Filed 2-23-18; 8:45 am]

BILLING CODE 4810-AM-P